DEPARTMENT OF ENERGY

Federal Energy Regulatory Commission El Dorado Irrigation District California; Notice of Public Meetings

January 22, 2002.

The Federal Energy Regulatory Commission (Commission) is reviewing the application for a new license for the El Dorado Project (FERC No. 184), filed on February 22, 2000. The El Dorado Project, licensed to the El Dorado Irrigation District (EID), is located on the South Fork American River, in El Dorado, Alpine, and Amador counties, California. The project occupies lands of the Eldorado National Forest.

The EID, several State and Federal agencies, and several non-governmental agencies are working collaboratively with a facilitator to resolve certain issues relevant to this proceeding. These meetings are a part of that collaborative process. Meetings will be held as follows:

February 10 Plenary Meeting—9 am-4 pm; February 11 Plenary Meeting—9 am-4 pm; and February 12 Plenary Meeting—9 am-4 pm.

We invite the participation of all interested governmental agencies, non-governmental organizations, and the general public in these meetings.

All meetings will be held in the El Dorado Board of Directors Meeting Room, located at EID Headquarters, 2890 Mosquito Road, Placerville, California.

For further information, please contact Elizabeth Molloy at (202) 502-8771 or John Mudre at (202) 502-8902.

Magalie R. Salas,
Secretary.

[FR Doc. 03-1937 Filed 1-27-03; 8:45 am]

BILLING CODE 6717-01-P